DEPARTMENT OF STATE

[Public Notice:11018]

Covered Claims Under the Promoting Security and Justice for Victims of Terrorism Act of 2019

ACTION: Notice of identification of method for submission of covered claims.

SUPPLEMENTARY INFORMATION: Section 903(b)(4) of the Promoting Security and Justice for Victims of Terrorism Act of 2019 (Div. J, Pub. L. 116-94) provides that it is the sense of Congress that (A) covered claims should be resolved in a manner that provides just compensation to the victims; (B) covered claims should be resolved and settled in favor of the victim to the fullest extent possible and without subjecting victims to unnecessary or protracted litigation; (C) the United States Government should take all practicable steps to facilitate the resolution and settlements of all covered claims, including engaging directly with the victims or their representatives and the Palestinian Authority and the Palestine Liberation Organization; and (D) the United States Government should strongly urge the Palestinian Authority and the Palestine Liberation Organization to commit to good-faith negotiations to resolve and settle all covered claims.

Section 903(b)(2)(A) provides that the Department of State shall publish a notice in the Federal Register identifying the method by which a national of the United States, or a representative of a national of the United States, who has a covered claim, may contact the Department of State to give notice of the covered claims. Section 903(b)(2)(B) further provides that the Secretary of State, or a designee of the Secretary, shall meet (and make every effort to continue to meet on a regular basis thereafter) with any national of the United States, or a representative of a national of the United States, who has a covered claim and has informed the Department of State of the covered claim using the method established pursuant to subparagraph (A) to discuss the status of the covered claim, including the status of any settlement discussions with the Palestinian Authority or the Palestine Liberation Organization.

Consistent with section 903(b)(2)(A), the Department of State hereby provides notice that nationals of the United States, or their representatives, may submit notice of and information concerning their covered claim to PalestinianClaims@state.gov by May 3, 2020. Such information shall include, at a minimum, the method by which the Department of State may contact a claimant, as well as sufficient documentation to establish that the claim constitutes a “covered claim” within the meaning of section 903. Section 903 defines a “covered claim” to mean any pending action by, or final judgment in favor of, a national of the United States, or any action by a national of the United States dismissed for lack of personal jurisdiction, under section 2333 of title 18, United States Code, against the Palestinian Authority or the Palestine Liberation Organization. In the event notice and information of a covered claim is submitted by the representative of a national of the United States, the information provided shall also include such documentation as necessary to establish the representative's legal capacity to act on behalf of the national of the United States.

Persons with questions about filing notice of a covered claim may contact the Palestinian Claims line at 202-776-8430.

Richard C. Visek,
Principal Deputy Legal Adviser, Office of the Legal Adviser, Department of State.

[FR Doc. 2020-02082 Filed 1-31-20; 8:45 am]

BILLING CODE 4710-31-P